SECURITIES AND EXCHANGE COMMISSION

[File No. 1-9997]

Issuer Delisting; Notice of Application To Withdraw From Listing and Registration (Koger Equity, Inc., Common Stock, Par Value $.01 per Share)

March 21, 2000.

Koger Equity, Inc. (“Company”), has filed an application with the Securities and Exchange Commission (“Commission”), pursuant to Section 12(d) of the Securities Exchange Act of 1934 (“Act”) ¹ and Rule 12d2-2(d) thereunder, ² to withdraw the security described above (“Security”) from listing and registration on the American Stock Exchange LLC (“Amex”).

¹ 15 U.S.C. 78l(d).

² 17 CFR 240.12d2-2(d).

The Security, which has been listed registered on the Amex, has recently become listed and registered on the New York Stock Exchange, Inc. (“NYSE”), under a Registration Statement, filed with the Commission on Form 8-A, which became effective on March 6, 2000. Trading in the Security commenced on the NYSE, and was simultaneously suspended on the Amex, at the opening of business on March 9, 2000.

The Company has stated that it has complied with Amex Rules relating to the withdrawal of its Security, and that the Amex in turn has indicated that it does not oppose such withdrawal. In obtaining a listing and registration for its Security on the NYSE, the Company hopes to realize a broader market for shares of its Security than was available through the Amex.

The Company's application relates solely to the withdrawal of the Security from listing and registration on the Amex and shall have no effect upon the Security's continued listing and registration on the NYSE. By reason of Section 12(b) of the Act ³ and the rules and regulations of the Commission thereunder, the Company shall continue to be obligated to file reports with the Commission under Section 13 of the Act.⁴

³ 15 U.S.C. 78l(b).

⁴ 15 U.S.C. 78m.

Any interested person may, on or before April 11, 2000, submit by letter to the Secretary of the Securities and Exchange Commission, 450 Fifth Street, N.W., Washington, D.C. 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 00-7435 Filed 3-24-00; 8:45 am]

BILLING CODE 8010-01-M